DEPARTMENT OF ENERGY

Federal Energy Regulatory Commission

[Docket No. RP97-287-057]

El Paso Natural Gas Company; Notice of Compliance Filing

April 5, 2002.

Take notice that on April 1, 2002, El Paso Natural Gas Company (EPNG) tendered for filing to its FERC Gas Tariff, Second Revised Volume No. 1-A, the following tariff sheets, to become effective April 1, 2002:

Thirty-Fifth Revised Sheet No. 30

Twenty-Ninth Revised Sheet No. 31

EPNG states that the above tariff sheets are being filed to implement a new negotiated rate contract pursuant to the Commission's Statement of Policy on Alternatives to Traditional Cost-of-Service Ratemaking for Natural Gas Pipelines and Regulation of Negotiated Transportation Services of Natural Gas Pipelines issued January 31, 1996 at Docket Nos. RM95-6-000 and RM96-7-000.

Any person desiring to protest said filing should file a protest with the Federal Energy Regulatory Commission, 888 First Street, NE., Washington, DC 20426, in accordance with Section 385.211 of the Commission's Rules and Regulations. All such protests must be filed in accordance with Section 154.210 of the Commission's Regulations. Protests will be considered by the Commission in determining the appropriate action to be taken, but will not serve to make protestants parties to the proceedings. Copies of this filing are on file with the Commission and are available for public inspection. This filing may also be viewed on the Web at http://www.ferc.gov using the “RIMS” link, select “Docket#” and follow the instructions (call 202-208-2222 for assistance). Comments, protests and interventions may be filed electronically via the Internet in lieu of paper. See, 18 CFR 385.2001(a)(1)(iii) and the instructions on the Commission's Web site under the “e-Filing” link.

Linwood A. Watson, Jr.,
Deputy Secretary.

[FR Doc. 02-8904 Filed 4-11-02; 8:45 am]

BILLING CODE 6717-01-P